DEPARTMENT OF DEFENSE

Office of the Secretary

[Transmittal No. 23-31]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-31, Policy Justification.

Dated: November 13, 2025.
Aaron T. Siegel,
Alternate OSD Federal Register Liaison Officer, Department of Defense.

Transmittal No. 23-31

Notice of Proposed Issuance of Letter of Offer Pursuant to Section 36(b)(1) of the Arms Export Control Act, as amended

(i) Prospective Purchaser: Government of Tunisia

(ii) Total Estimated Value:

Major Defense Equipment* | $ 0 million
Other | $110 million
TOTAL | $110 million

Funding Source: Foreign Military Financing and National Funds

(iii) Description and Quantity or Quantities of Articles or Services Under Consideration for Purchase: Foreign Military Sales (FMS) case TU-P-LBB was below the congressional notification threshold at $49.3 million for non-MDE 65' SAFE Archangel boats and additional non-MDE articles and services. The Government of Tunisia has requested that the case be amended to include additional non-MDE 65' SAFE Archangel boats and non-MDE articles and services. This amendment will push the current case above the total case value notification threshold and thus notification of the entire case is required.

Major Defense Equipment (MDE):

None

Non-MDE:

Included are 65' SAFE Archangel boats; commercial variant marine global positioning systems; navigation systems; communications equipment; training; and other related elements of logistical and program support.

(iv) Military Department: Navy (TU-P-LBB)

(v) Prior Related Cases, if any: None

(vi) Sales Commission, Fee, etc., Paid, Offered, or Agreed to be Paid: None

(vii) Sensitivity of Technology Contained in the Defense Article or Defense Services Proposed to be Sold: None

(viii) Date Report Delivered to Congress: August 20, 2024

* as defined in Section 47(6) of the Arms Export Control Act

POLICY JUSTIFICATION

Tunisia—65' SAFE Archangel Boats

The Government of Tunisia has requested to buy additional non-MDE 65' SAFE Archangel boats and additional non-MDE articles and services that will be added to a previously implemented case. The original FMS case, valued at $49.3 million, included non-MDE 65' SAFE Archangel boats and non-MDE articles and services, consisting of commercial variant marine global positioning systems; navigation systems; communications equipment; training; and other related elements of logistical and program support. The estimated total cost is $110 million.

This proposed sale will support U.S. foreign policy and national security objectives by helping to improve the security of a major non-NATO ally that continues to play an important role in regional security and Peacekeeping Operations throughout Africa.

The proposed sale will better equip Tunisia to contribute to shared security objectives, promote regional stability, and build interoperability with the United States and Western partners. The Tunisian Navy uses the 65' SAFE boats for search and rescue, maritime law enforcement, and other maritime-related operations to ensure security in the country and region. The boats will build on Tunisia's existing military capability. Tunisia will have no difficulty absorbing this equipment and services into its armed forces.

The proposed sale of this equipment and services will not alter the basic military balance in the region.

The principal contractor is SAFE Boats International, located in Bremerton, Washington. There are no known offset agreements proposed in connection with this potential sale.

Implementation of this sale will not require the assignment of any U.S. Government or contractor representatives to Tunisia.

There will be no adverse impact on U.S. defense readiness as a result of this proposed sale.

[FR Doc. 2025-20029 Filed 11-17-25; 8:45 am]

BILLING CODE 6001-FR-P